DEPARTMENT OF COMMERCE

Census Bureau

Agency Information Collection Activities; Submission to the Office of Management and Budget (OMB) for Review and Approval; Comment Request; School District Review Program

AGENCY: U.S. Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed extension of the School District Review Program prior to the submission of the information collection request (ICR) to OMB for approval.

DATES: To ensure consideration, comments regarding this proposed information collection must be received on or before February 22, 2021.

ADDRESSES: Interested persons are invited to submit written comments by email to robin.a.pennington@census.gov. Please reference “School District Review Program” in the subject line of your comments. You may also submit comments, identified by Docket Number USBC-2020-0033, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Robin A. Pennington, Decennial Census Management Division, Program Management Office, by phone 301-763-8132 or by email robin.a.pennington@census.gov.

SUPPLEMENTARY INFORMATION:

I. Abstract

The School District Review Program (SDRP) is one of many voluntary geographic partnership programs. The SDRP collects school district information and boundaries to update the U.S. Census Bureau's geographic database of addresses, streets, and boundaries. The Census Bureau uses its geographic database to tie demographic data from surveys and the decennial census to locations and areas, such as cities, school districts, and counties. To tabulate statistics by localities, the Census Bureau must have accurate addresses and boundaries.

While the geographic programs differ in requirements, timeframe, and participants, SDRP and the other geographic programs all follow the same basic process:

• The Census Bureau invites eligible participants to the program. For SDRP, the sponsor, the National Center for Education Statistics invites the state departments of education/state Title I coordinators to designate mapping coordinators.

• If they elect to participate in the program, participants receive a copy of the boundaries the Census Bureau has on file. SDRP participants receive free customized mapping software.

• Participants review the boundaries in the Census Bureau provided digital maps and update them if needed. For SDRP, participants reach out to contacts in their state to collect updates.

• Participants return their updates to the Census Bureau.

• The Census Bureau updates its geographic database with boundary updates from participants.

• The Census Bureau uses the newly updated boundaries to tabulate statistics.

The Census Bureau requests state officials to review and update the school district information the Census Bureau has on file, through the SDRP. The school district information obtained through this program will assist in forming the Census Bureau's estimates of the number of children age five through seventeen, in families and living in poverty, for each school district.

State officials will provide the Census Bureau with updates and corrections to the federal School District Local Education Agency (SDLEA) identification numbers, school district boundaries, school names, grade ranges, and levels for which each school district is financially responsible.

These Census Bureau estimates are the basis of the Title I allocation for each school district. The SDRP is of vital importance for each state's allocation under Title I of the Elementary and Secondary Education Act (ESEA) as amended by Every Student Succeeds Act of 2015, Public Law 114-95. The U.S. Department of Education uses these estimates to allocate more than $14 billion in Title I funding annually.

The National Center for Education Statistics (NCES) sponsors the SDRP. The NCES invites the state departments of education/Title I coordinators to designate a mapping coordinator for each state and the District of Columbia. The mapping coordinator collects updates from local school districts, state education officials, county planners, and state data centers, and ensures completion of submissions within the SDRP's timeframe. The respondents for the SDRP are the Title I coordinators and mapping coordinators from the fifty states and the District of Columbia.

The SDRP encompasses Type 1 and Type 2 school districts as defined by the NCES. Type 1 is a local school district that is not a component of a supervisory union. Type 2 is a local school district component of a supervisory union sharing a superintendent and administrative services with other local school districts.

The SDRP consists of two phases—the Annotation and Verification Phases. In the Annotation Phase, the Census Bureau provides mapping coordinators with materials containing the most current school district boundaries and information the Census Bureau has on file for their state. Mapping coordinators review the data and submit changes to the school district boundaries or associated information to the Census Bureau. The Census Bureau reviews and processes the information submitted by mapping coordinators, and the Census Bureau updates all verified changes into the Master Address File/Topologically Integrated Geographic Encoding and Referencing (MAF/TIGER) database. In the Verification Phase, mapping coordinators verify that the Census Bureau accurately and completely updated the MAF/TIGER database with updates submitted during the Annotation Phase.

II. Method of Collection

Annotation Phase

In the Annotation Phase, mapping coordinators gather school district updates from school district superintendents and other state officials and use Census Bureau-provided materials to review and update school district boundaries, names, codes, and geographic relationships. The Census Bureau provides mapping coordinators with school district listings, spatial data in Esri shapefile format, blank submission logs, and Geographic Update Partnership Software (GUPS). The school district listings consist of school district inventories, school names, levels, grade ranges, and other data about school districts within their state. If the mapping coordinator has non-spatial updates (e.g., name changes, simple consolidations, simple dissolutions, and others), the mapping coordinator updates the Census Bureau provided submission log with those changes. If a mapping coordinator needs to perform spatial updates to a school district boundary, the mapping coordinator uses Census Bureau provided GUPS and spatial data to make updates. GUPS, SDRP version, is a Census Bureau-created, user-friendly, free digital mapping tool for mapping coordinators. It contains all the functionality necessary for mapping coordinators to spatially make and validate their school district updates. Once mapping coordinators have reviewed and updated the school district information for their state, the mapping coordinator sends it to the Census Bureau, using Secure Web Incoming Module (SWIM), a web portal for uploading SDRP submissions. The Census Bureau will update the MAF/TIGER database with the updates sent by the mapping coordinator.

Schedule

• Annotation Phase begins for the SDRP—August/September of each year.

• Deadline to submit SDRP Annotation Phase to Census Bureau—last workday in December of each year.

Verification Phase

In the Verification Phase, the Census Bureau sends mapping coordinators newly created listings and digital files, and mapping coordinators use the SDRP verification module in GUPS to review these files and verify that the Census Bureau correctly captured their submitted information. The mapping coordinator can tag the area of issue and send the information to the Census Bureau to make corrections if the Census Bureau did not incorporate their boundary changes or other updates correctly.

Schedule

• Verification Phase begins and ends for the SDRP—March/April of each year.

III. Data

OMB Control Number: 0607-0987.

Form Number(s): None.

Type of Review: Regular submission, Request for an Extension, without change of a currently approved collection.

Affected Public: All fifty states and the District of Columbia.

Estimated Number of Respondents:

• Annotation Phase: 51.

• Verification Phase: 51.

Estimated Time per Response:

• Annotation Phase: 30 hours.

• Verification Phase: 10 hours.

Estimated Total Annual Burden Hours: 2,040.

• Annotation Phase: 1,530 hours.

• Verification Phase: 510 hours.

Estimated Total Annual Cost to Public: $0. (This is not the cost of respondents' time, but the indirect costs respondents may incur for such things as purchases of specialized software or hardware needed to report, or expenditures for accounting or records maintenance services required specifically by the collection.).

Respondent's Obligation: Voluntary.

Legal Authority: Title 13 U.S.C. Section 16, 141, and 193.

NCES Legal Authority: Title I, Part A of the Elementary and Secondary Education Act as amended by the Every Student Succeeds Act of 2015, Public Law (Pub. L.) 114-95.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments that you submit in response to this notice are a matter of public record. Summarization of comments submitted in response to this notice will be included in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-28143 Filed 12-21-20; 8:45 am]

BILLING CODE 3510-07-P